DEPARTMENT OF THE INTERIOR

Fish and Wildlife Service

[FWS-R4-ES-2008-N0123; 40120-1112-0000-F5]

Receipt of Applications for Endangered Species Permits

AGENCY: Fish and Wildlife Service, Interior.

ACTION: Notice.

SUMMARY: The public is invited to comment on the following applications to conduct certain activities with threatened and endangered species.

DATES: We must receive written data or comments on the applications at the address given below, by June 19, 2008.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: David Dell, HCP Coordinator).

FOR FURTHER INFORMATION CONTACT: David Dell, telephone 404/679-7313; facsimile 404/679-7081.

SUPPLEMENTARY INFORMATION: The public is invited to comment on the following applications for permits to conduct certain activities with endangered and threatened species pursuant to section 10(a)(1)(A) of the Endangered Species Act of 1973, as amended (16 U.S.C. 1531 et seq.). This notice is provided under section 10(c) of the Act. If you wish to comment, you may submit comments by any one of the following methods. You may mail comments to the Fish and Wildlife Service's Regional Office (see ADDRESSES section) or via electronic mail (e-mail) to david_dell@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: Assistant Regional Director, Ecological Services, U.S. Fish and Wildlife Service, Southeast Region, TE697819

The applicant requests renewal of existing authorization to take or remove and reduce to possession listed species occurring in the U.S. Fish and Wildlife Service's Southeast Region for scientific purposes, the enhancement of propagation or survival, and for approved recovery activities. The applicant also requests amendment of their existing permit to add or remove all newly listed or de-listed species since the last permit renewal, as well as to add candidate species expected to be listed in the near future.

Applicant: Harold Schramm, USGS, Mississippi Cooperative Fish and Wildlife Research Unit, Mississippi State, Mississippi, TE178448

The applicant requests authorization to capture, implant acoustic transmitters into, and release pallid sturgeon (Scaphirhynchus albus) for tracking purposes in the Mississippi and Atchafalaya Rivers in Mississippi and Louisiana.

Applicant: Scott Slankard, Eco-Tech Consultants, Inc., Frankfort, Kentucky, TE810274

The applicant requests authorization to amend an existing permit to capture, handle, radio-tag, and release Indiana bats (Myotis sodalis) and gray bats (Myotis grisescen) for presence/absence surveys and scientific research aimed at recovery of the species throughout the states of New Jersey, West Virginia, Kentucky, Georgia, North Carolina, South Carolina, Tennessee, Missouri, Ohio, Indiana, and Illinois.

Applicant: Peggy Measel, Round Mountain Biological and Environmental Studies, Inc., Nicholasville, Kentucky, TE121059

The applicant requests authorization to amend an existing permit to capture, identify, measure, sex, and release Indiana bats and gray bats while conducting presence/absence surveys throughout the species ranges in Tennessee.

Applicant: Norman Wagoner, Forest Supervisor, Ouachita National Forest, Hot Springs, Arkansas, TE125605

The applicant requests renewal of existing authorization to capture, handle, band, and release the Indiana bat while conducting inventory and monitoring surveys within the boundaries of Ouachita National Forest, Arkansas and Oklahoma.

Applicant: Chris Fleming, BDY Environmental, LLC, Nashville, Tennessee, TE111326

The applicant requests renewal of existing authorization to capture, identify, sex, photograph, temporarily hold, release, and relocate the Nashville crayfish (Orconectes shoupi) while conducting presence/absence surveys and translocation activities in Mill Creek Watershed, Davidson and Williamson Counties, Tennessee.

Applicant: Robert Oney, Palmer Engineering, Winchester, Kentucky, TE178524

The applicant requests authorization to capture, identify, temporarily hold, and release Indiana bats, gray bats, and Virginia big-eared bats (Corynorhinus townsendii virginianus); cumberlandian combshell (Epioblasma brevidens), Cumberland elktoe (Alasmidonta atropurpurea), Cumberland bean (Villosa trabalis), fanshell (Cyprogenia stegaria), ring pink (Obovaria retusa), orangefoot pimpleback (Plethobasus cooperianus), rough pigtoe (Pleurobema plenum), pink mucket (Lampsilis abrupta), clubshell (Pleurobema clava), and fat pocketbook (Potamilus capax); and locate white-haired goldenrod (Solidago albopilosa), running buffalo clover (Trifolium stoloniferum), and Virginia spiraea (Spiraea virginiana) while conducting presence/absence surveys throughout the range of the species.

Applicant: Paul Stone, Crosby Resource Management, LLC, DeRidder, Louisiana, TE179330

The applicant requests authorization to harass the red-cockaded woodpecker (Picoides borealis) while surveying population occurrence and conducting management activities for this species throughout Louisiana, Mississippi, and Texas.

Applicant: Jeffrey Walters, Department of Biological Sciences, Virginia Tech, Blacksburg, Virginia, TE070846

The applicant requests renewal of existing authorization to monitor nests, capture, band, radio-tag, collect blood, construct cavities, and translocate red-cockaded woodpeckers for the purposes of banding juveniles and adults, monitoring populations and nest cavities, and various research projects throughout the species range in Florida, South Carolina, and North Carolina.

Applicant: Michael Keys, North Florida Wildlife, Crawfordville, Florida, TE834056

The applicant requests renewal of existing authorization to capture, band, and release red-cockaded woodpeckers for the purposes of banding juveniles and adults and monitoring populations and nest cavities throughout the species range in Arkansas, Florida, Georgia, South Carolina, North Carolina, Alabama, Louisiana, Mississippi, Virginia, Oklahoma, and Texas.

Applicant: Shaun Williamson, Forest Supervisor, National Forests in Mississippi, Jackson, Mississippi, TE020890

The applicant requests renewal of existing authorization to harass red-cockaded woodpeckers for the purposes of constructing and monitoring artificial nest cavities and restrictors; for capturing, banding, and translocation of birds; and for monitoring populations and nest cavities throughout the species range in Mississippi.

Applicant: Charles Rabolli, CCR Environmental, Inc., Atlanta, Georgia, TE096132

The applicant requests renewal of existing authorization to harass red-cockaded woodpeckers while conducting presence/absence surveys, constructing artificial nest cavities, controlling vegetation, and monitoring activities in clusters throughout the species range in Virginia, Arkansas, Florida, Georgia, South Carolina, North Carolina, Alabama, Louisiana, Mississippi, and Tennessee.

Applicant: Curtis Garriock, Pittsboro, North Carolina, TE179329

The applicant requests authorization to capture, identify, photograph, temporarily hold, and release the Saint Francis Satyr butterfly (Neonympha mitchellii francisci) while conducting presence/absence surveys for this species throughout North Carolina and Virginia.

Applicant: Eric Hoffman, Department of Biology, University of Central Florida, Orlando, Florida, TE179312

The applicant requests authorization to capture, examine, draw blood, collect hairs, and release the Lower Keys marsh rabbit (Sylvilagus palustris hefneri) to assess genetic diversity in Monroe County, Florida.

Applicant: Chris Isaac, Appalachian Technical Services, Inc., Wise, Virginia, TE009638

The applicant requests authorization to amend an existing permit to capture, handle, radio-tag, and release Indiana bats, gray bats, Virginia big-eared bats, and blackside dace (Phoxinus cumberlandensis) for presence/absence surveys and scientific research aimed at recovery of the species throughout the species ranges in Georgia, North Carolina, Alabama, Mississippi, Kentucky, Tennessee, Ohio, Indiana, Pennsylvania, Virginia, and West Virginia.

Applicant: Brian Estes, Jordan, Jones, and Goulding, Inc., Norcross, Georgia, TE087127

The applicant requests renewal of existing authorization to capture, identify, and release blue shiner (Cyprinella caerulea), Etowah darter (Etheostoma etowahae), Cherokee darter (Etheostoma scotti), amber darter (Percina antesella), goldline darter (Percina aurolineata), snail darter (Percina tanasi), Conasauga logperch (Percina jenkinsi), and the eastern indigo snake (Drymarchon corais couperi) for presence/absence surveys throughout the species ranges in Georgia.

Applicant: Jeffrey West, Columbia, South Carolina, TE178643

The applicant requests authorization to harass the Carolina heelsplitter (Lasmigona decorate) for presence/absence surveys throughout the species range in North Carolina and South Carolina.

Applicant: John Alford, Ecological Solution, Inc., Roswell, Georgia, TE070800

The applicant requests authorization to amend an existing permit to harass all threatened and endangered fish, mussel, and snail species native to Georgia and Alabama for presence/absence surveys.

Applicant: Julie Lockwood, North Brunswick, New Jersey, TE075916

The applicant requests authorization to amend an existing permit to capture, band, collect blood samples, release, and monitor nests of the Cape Sable seaside sparrow (Ammodramus maritimus mirabilis) while conducting demographic studies in Everglades National Park and Big Cypress National Preserve, Monroe and Miami-Dade Counties, Florida.

Dated: May 5, 2008.
Cynthia K. Dohner,
Acting Regional Director.

[FR Doc. E8-11292 Filed 5-19-08; 8:45 am]

BILLING CODE 4310-55-P